DEPARTMENT OF THE INTERIOR

Bureau of Land Management

[LLNVL00000. L51100000.GN0000. LVEMF1604790. 241A.18X; MO#4500101127]

Notice of Availability for the Final Environmental Impact Statement for the Proposed Gold Rock Mine Project, White Pine County, Nevada

AGENCY: Bureau of Land Management, Interior.

ACTION: Notice of Availability for the Final Environmental Impact Statement for the Proposed Gold Rock Mine Project, White Pine County, Nevada.

SUMMARY: In accordance with the National Environmental Policy Act of 1969, as amended (NEPA), and the Federal Land Policy and Management Act of 1976, as amended, the Bureau of Land Management (BLM) Bristlecone Field Office, Ely, Nevada, has prepared a Final Environmental Impact Statement (EIS) for the Gold Rock Mine Project (Project), White Pine County, Nevada, and by this notice is announcing its availability.

DATES: The BLM will not issue a final decision on the proposal for a minimum of 30 days after the date that the Environmental Protection Agency publishes its Notice of Availability in the Federal Register.

ADDRESSES: Copies of the Final EIS for the Gold Rock Mine Project and other documents pertinent to this proposal may be examined at the Bristlecone Field Office: 702 North Industrial Way, Ely, Nevada. The document is available for download on the internet at: http://on.doi.gov/1zAxyW9.

FOR FURTHER INFORMATION CONTACT: Maria Ryan, Project Manager, (775) 289-1888; mmryan@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Gold Rock Mine Project would involve construction and operation of an open-pit gold mine on public land in White Pine County, Nevada. Midway Gold U.S. was the original proponent. GRP Gold Rock, LLC Inc. (GRP) purchased the project in 2016. The project would involve expansion of an existing open pit and construction of two waste rock disposal areas, heap leaching facilities with an adsorption/desorption refining plant, a carbon-in-leach plant, a tailings storage facility, roads, ancillary support facilities, and exploration areas. A 69kV power line would be built and tied into an existing power line with the Pan Mine located north of the project area. Water with which GRP has rights would be supplied via an existing well located on BLM-administered lands south of the main Project footprint. Construction and mining operations would occur within the fenced 8,757 acres and would disturb 3,946 acres. The proposed action also includes 200 acres of exploration disturbance in addition to the 267 acres of previously authorized exploration outside the fenced area.

The Final EIS describes and analyzes the proposed project site-specific impacts (including cumulative effects) on all affected resources. The Final EIS describes eight alternatives: (1) The Proposed Action; (2) the Northern Power Line Route Alternative; (3) the Southern Power Line Route Alternative; (4) the Northwest Main Access Route Alternative, Northern Power Line Route; (5) the Northwest Main Access Route Alternative, Southern Power Line Route; (6) the Modified County Road Re-Route Alternative; (7) the Western Tailings Storage Facility Alternative; and (8) the No Action Alternative.

1. Proposed Action

The proposed Project would be constructed and operated in the same geographic area as the reclaimed and closed Easy Junior Mine. The proposed Project consists of an open pit, two waste rock disposal areas, a heap leach pad and processing ponds, a carbon-in-leach plant, a tailings storage facility, haul and access roads, growth medium stockpiles, ancillary support facilities, and exploration associated with mining operation. Also under the Proposed Action, a 69-kV transmission line would extend south from the Pan Mine, east of and parallel to the approved Pan Mine Southwest Power Line, then extend southeast to the mine area. The site would be accessed using the existing main access route from US 50 on Green Springs Road (CR 5), then west on BLM Road 1179 (BLM 1179)/CR 1204, then south on Easy Junior Road (CR 1177) to the proposed mine area. Also under the Proposed Action, a county road that currently passes through the Gold Rock Mine Project area would be re-located onto existing and new BLM and county roads. Total disturbance in the project area would be approximately 3,946 acres.

2. Northern Power Line Route Alternative

The Northern Power Line Route Alternative was developed to minimize potential impacts to Greater sage-grouse and its habitat due to surface disturbance and from raptors using the power line between the Pan Mine and the Project as a perch to hunt for prey. This power line route would be shorter than the Proposed Action power line route. Fewer acres of Greater sage-grouse Priority Habitat Management Area (PHMA) and General Habitat Management Area (GHMA) would be disturbed and fewer acres of PHMA and GHMA would be located within 600 meters of the power line, as compared to the Proposed Action.

3. Southern Power Line Route Alternative

The Southern Power Line Route Alternative also was developed to minimize potential impacts to Greater sage-grouse and its habitat due to surface disturbance and from raptors using the power line as a perch to hunt for prey. This power line route would be shorter than Proposed Action power line route or the Northern Power Line Route Alternative. Fewer acres of PHMA and GHMA would be disturbed and fewer acres of PHMA and GHMA would be located within 600 meters of the power line, as compared to the Proposed Action power line or Northern Power Line Route Alternative.

4. Northwest Main Access Route Alternative, Northern Power Line Route

The Northwest Main Access Route Alternative, Northern Power Line Route was developed to address concerns about potential noise impacts to Greater sage-grouse. It would include the benefits of the Northern Power Line Route Alternative, and would move most mine-related traffic away from known active Greater sage-grouse leks. This alternative would also contribute to fewer potential vehicular collisions with big game due to its distance away from a known migration route for the Ruby Mountain mule deer herd.

5. Northwest Main Access Route Alternative, Southern Power Line Route

The Northwest Main Access Route Alternative, Southern Power Line Route was developed to address concerns about potential noise impacts to Greater sage-grouse. It would include the benefits of the Southern Power Line Route Alternative and would move most mine-related traffic away from known active Greater sage-grouse leks. This alternative would also contribute to fewer vehicular collisions with big game due to its distance away from a known migration route for the Ruby Mountain mule deer herd.

6. Modified County Road Re-Route Alternative

The Modified County Road Re-route Alternative was developed to lessen impacts to GHMA. This alternative would involve use of existing roads rather than construction of a segment of new road in Greater sage-grouse habitat.

7. Western Tailings Storage Facility Alternative

The Western Tailings Storage Facility Alternative was developed to address concerns about potential surface disturbance impacts to PHMA and loss of mule deer crucial winter range. Under this alternative, the tailings storage facility would be located to the west of the heap leach pile, outside of mule deer crucial winter range. The mine area's eastern fence line would be shifted to the west to minimize restriction of movement for Ruby mule deer herd in their crucial winter range.

8. No Action Alternative

The No Action Alternative would not include any activities associated with the Proposed Action. Mineral resources in these areas of expansion would remain undeveloped. The construction and operation of the open pit, waste rock disposal areas, heap leach facilities, mill, tailings storage facility, and support facilities would not occur as currently proposed under the Proposed Action. The county road would not be re-routed. The exploration activities previously authorized under NVN-90376 for the project would continue, however. NEPA requires analysis of the No Action Alternative.

The BLM's Preferred Alternative is a combination of the Northwest Main Access Route Alternative, Southern Power Line Route (Alternative 5); the Modified County Road Re-route Alternative (Alternative 6); and the Western Tailings Storage Facility Alternative (Alternative 7). This Preferred Alternative would involve construction and operation of a shorter power line route than the Proposed Action by following the Southern Power Line Route. This power line would minimize surface disturbance impacts to PHMA and GHMA, as well as minimize potential raven and raptor predation of Greater sage-grouse. Total acres of surface disturbance in the Preferred Alternative are PHMA 1,872; GHMA 1,641.

In addition, the Preferred Alternative would use the Northwest Main Access Route, which would be located farther from known active leks than the Proposed Action, minimizing potential noise impacts to Greater sage-grouse. This route could contribute to fewer vehicular collisions with big game due to its distance from a known migration route for Area 10 mule deer. The Preferred Alternative would use existing roads for the county road re-route as presented under the Modified County Road Re-route, minimizing new ground disturbance and impacts to GHMA.

The Preferred Alternative would incorporate the Western Tailings Storage Facility Alternative by shifting the tailings storage facility and related mine facility locations westward which would minimize surface disturbance in PHMA and mule deer crucial winter range and also would slightly increase the surface disturbance in GHMA.

The BLM identified action alternatives that would minimize impacts to the Greater sage-grouse, as well as mitigation measures to further avoid or minimize direct and indirect impacts PHMA and GHMA. In addition, the proponent committed to effective environmental protection measures, including mitigation measures to offset residual (long-term un-reclaimed) direct surface disturbance.

The BLM prepared the Draft EIS in conjunction with its four cooperating agencies: The Duckwater Shoshone Tribe of the Duckwater Reservation, Nevada; White Pine County Board of County Commissioners; Eureka County Board of Commissioners; and the Nevada Department of Wildlife (NDOW). After issuance of the Draft EIS, in accordance with a Memorandum of Understanding between the BLM Nevada State Office and California State Office, and the Nevada Department of Conservation and Natural Resources, and the USFS Humboldt-Toiyabe National Forest completed on April 1, 2016, the BLM added the Nevada Department of Conservation and Natural Resources Sagebrush Ecosystem Technical Team (SETT) as a fifth cooperating agency.

The BLM prepared and published a notice in the Ely Times, the Eureka Sentinel, the High Desert Advocate, and the Reno Gazette-Journal informing the public of the availability of the Draft EIS for review. The public was invited to provide written comments on the Draft EIS during the 45-day comment period. The BLM conducted public meetings in Ely, Eureka, and Reno during the review period for the Draft EIS.

A total of 26 individual comment submittals containing 253 discrete comments were received from the cooperating agencies, the public, the U.S. Environmental Protection Agency (EPA), and the internal BLM review. The BLM considered all comments and incorporated them, as appropriate, into the FEIS. Those who submitted comments on the Draft EIS expressed concerns about the handling of leach solution and potentially acid-generating waste rock, and potential impacts to groundwater quality; loss of mule deer crucial winter range; potential impacts to Greater sage-grouse and their habitat; potential indirect impacts to the Railroad Valley springfish; loss of access to livestock grazing lands, including herding routes; long-term impacts to forage resource health in areas impacted by the proposed project; increased public accessibility to the area and impacts on private property; potential impacts on wild horses; potential impacts on Traditional Cultural Properties; socioeconomic impacts to the communities of Ely and Eureka, and to White Pine and Eureka counties; and particulate matter emissions and impacts to air quality. There were also comments received in general support for the mine. These public comments resulted in the addition of clarifying text, but did not significantly change the analysis. The proponent submitted a plan of operations for the Project in March 2013, and the BLM and EPA published notices of the availability of the Draft EIS in the Federal Register in February 2015. There have been several delays to completion of this Final EIS since 2013 due to sale of the mine, issuance of the Nevada and Northeast California Greater Sage-Grouse Land Use Plan Amendment (2015), and requests by the proponent to further address air quality concerns in 2016.The BLM has maintained on-going coordination and consultation with the Duckwater Shoshone Tribe. Both the BLM and GRP have committed to ongoing coordination through the life of the mine and have a Programmatic Agreement in place with the Nevada State Historic Preservation Office to address issues that arise.

Following a 30-day Final EIS availability and review period, the BLM will issue a Record of Decision (ROD). The decision reached in the ROD will be subject to appeal to the Interior Board of Land Appeals. The 30-day appeal period will begin with the issuance of the ROD.

Authority: 40 CFR 1506.6 and 40 CFR 1506.10.

Mindy Seal,
Field Manager, Bristlecone Field Office.

[FR Doc. 2018-16093 Filed 7-26-18; 8:45 am]

BILLING CODE 4310-HC-P